DEPARTMENT OF STATE

[Public Notice: 7220]

Waiver of Restriction on Assistance to the Government of Saudi Arabia

Pursuant to Section 7041 of the Department of State, Foreign Operations, and Related Programs Appropriations Act, 2010 (Division F, Pub. L. 111-117) (“the Act”), I hereby determine that it is in the national interest of the United States to waive Section 7041 of the Act, and hereby waive this restriction.

This determination shall be reported to the Congress, and published in the Federal Register.

Dated: February 22, 2010.
Hillary Rodham Clinton,
Secretary of State.

[FR Doc. 2010-27665 Filed 11-1-10; 8:45 am]

BILLING CODE 4710-31-P